DEPARTMENT OF ENERGY

Federal Energy Regulatory Commission

Combined Notice of Filings

Take notice that the Commission has received the following Natural Gas Pipeline Rate and Refund Report filings:

Docket Numbers: RP19-1353-010.

Applicants: Northern Natural Gas Company.

Description: Compliance filing 20200918 Compliance of Settlement to be effective 1/1/2020.

Filed Date: 9/30/20.

Accession Number: 20200930-5144.

Comments Due: 5 p.m. ET 10/13/20.

Docket Numbers: RP20-1123-001.

Applicants: Millennium Pipeline Company, LLC.

Description: Compliance filing RAM 2020—Periodic RAM Adj—Compliance Filing to be effective 10/1/2020.

Filed Date: 9/30/20.

Accession Number: 20200930-5113.

Comments Due: 5 p.m. ET 10/13/20.

Docket Numbers: RP20-1160-001.

Applicants: Transcontinental Gas Pipe Line Company, LLC.

Description: Tariff Amendment: Initial Rate Filing—Southeastern Trail Project—Amendment to be effective 11/1/2020.

Filed Date: 9/30/20.

Accession Number: 20200930-5129.

Comments Due: 5 p.m. ET 10/13/20.

Docket Numbers: RP20-1238-000.

Applicants: Gulf South Pipeline Company, LLC.

Description: § 4(d) Rate Filing: Cap Rel Neg Rate Agmts (Atlanta Gas 8438 to various shippers eff 10-1-2020) to be effective 10/1/2020.

Filed Date: 9/30/20.

Accession Number: 20200930-5005.

Comments Due: 5 p.m. ET 10/13/20.

Docket Numbers: RP20-1239-000.

Applicants: Gulf South Pipeline Company, LLC.

Description: § 4(d) Rate Filing: Cap Rel Neg Rate Agmt (Constellation 53096 to Exelon 53144) to be effective 10/1/2020.

Filed Date: 9/30/20.

Accession Number: 20200930-5006.

Comments Due: 5 p.m. ET 10/13/20.

Docket Numbers: RP20-1240-000.

Applicants: Northern Natural Gas Company.

Description: § 4(d) Rate Filing: 20200930 Negotiated Rate to be effective 10/1/2020.

Filed Date: 9/30/20.

Accession Number: 20200930-5020.

Comments Due: 5 p.m. ET 10/13/20.

Docket Numbers: RP20-1241-000.

Applicants: Dominion Energy Cove Point LNG, LP.

Description: § 4(d) Rate Filing: DECP—2020 PVIC Rate New Provision to be effective 11/1/2020.

Filed Date: 9/30/20.

Accession Number: 20200930-5021.

Comments Due: 5 p.m. ET 10/13/20.

Docket Numbers: RP20-1242-000.

Applicants: ANR Pipeline Company.

Description: § 4(d) Rate Filing: WPL NC ETS Agreement to be effective 11/1/2020.

Filed Date: 9/30/20.

Accession Number: 20200930-5022.

Comments Due: 5 p.m. ET 10/13/20.

Docket Numbers: RP20-1243-000.

Applicants: Trunkline Gas Company, LLC.

Description: § 4(d) Rate Filing: Fuel Filing on 9-30-20 to be effective 11/1/2020.

Filed Date: 9/30/20.

Accession Number: 20200930-5026.

Comments Due: 5 p.m. ET 10/13/20.

Docket Numbers: RP20-1244-000.

Applicants: Southwest Gas Storage Company.

Description: § 4(d) Rate Filing: Fuel Filing on 9-30-20 to be effective 11/1/2020.

Filed Date: 9/30/20.

Accession Number: 20200930-5027.

Comments Due: 5 p.m. ET 10/13/20.

Docket Numbers: RP20-1245-000.

Applicants: Dominion Energy Transmission, Inc.

Description: § 4(d) Rate Filing: DETI—2020 Annual EPCA to be effective 11/1/2020.

Filed Date: 9/30/20.

Accession Number: 20200930-5029.

Comments Due: 5 p.m. ET 10/13/20.

Docket Numbers: RP20-1246-000.

Applicants: Dominion Energy Transmission, Inc.

Description: § 4(d) Rate Filing: DETI—2020 Annual TCRA to be effective 11/1/2020.

Filed Date: 9/30/20.

Accession Number: 20200930-5033.

Comments Due: 5 p.m. ET 10/13/20.

Docket Numbers: RP20-1247-000.

Applicants: Kern River Gas Transmission Company.

Description: § 4(d) Rate Filing: 2020 P2/AltP2 Rates, 10-Year 2010 Expansion to be effective 11/1/2020.

Filed Date: 9/30/20.

Accession Number: 20200930-5046.

Comments Due: 5 p.m. ET 10/13/20.

Docket Numbers: RP20-1248-000.

Applicants: Kern River Gas Transmission Company.

Description: § 4(d) Rate Filing: 2020 September Negotiated Rate Agreement Amendment to be effective 10/1/2020.

Filed Date: 9/30/20.

Accession Number: 20200930-5047.

Comments Due: 5 p.m. ET 10/13/20.

Docket Numbers: RP20-1249-000.

Applicants: LA Storage, LLC.

Description: § 4(d) Rate Filing: Filing of Negotiated Rate, Conforming IW Agreements 10.1.20 to be effective 10/1/2020.

Filed Date: 9/30/20.

Accession Number: 20200930-5048.

Comments Due: 5 p.m. ET 10/13/20.

Docket Numbers: RP20-1250-000.

Applicants: National Fuel Gas Supply Corporation.

Description: § 4(d) Rate Filing: GT&C Section 42 (PS/GHG) Tracker Filing to be effective 11/1/2020.

Filed Date: 9/30/20.

Accession Number: 20200930-5050.

Comments Due: 5 p.m. ET 10/13/20.

Docket Numbers: RP20-1251-000.

Applicants: Panhandle Eastern Pipe Line Company, LP.

Description: § 4(d) Rate Filing: Fuel Filing on 9-30-20 to be effective 11/1/2020.

Filed Date: 9/30/20.

Accession Number: 20200930-5052.

Comments Due: 5 p.m. ET 10/13/20.

Docket Numbers: RP20-1252-000.

Applicants: Rover Pipeline LLC.

Description: § 4(d) Rate Filing: Fuel Filing on 9-30-20 to be effective 11/1/2020.

Filed Date: 9/30/20.

Accession Number: 20200930-5069.

Comments Due: 5 p.m. ET 10/13/20.

Docket Numbers: RP20-1253-000.

Applicants: Tennessee Gas Pipeline Company, L.L.C.

Description: § 4(d) Rate Filing: Pipeline Safety and Greenhouse Gas Cost Adjustment Mechanism—2020 to be effective 11/1/2020.

Filed Date: 9/30/20.

Accession Number: 20200930-5070.

Comments Due: 5 p.m. ET 10/13/20.

Docket Numbers: RP20-1255-000.

Applicants: Dominion Energy Carolina Gas Transmission.

Description: § 4(d) Rate Filing: DECG—2020 FRQ and TDA Report to be effective 11/1/2020.

Filed Date: 9/30/20.

Accession Number: 20200930-5080.

Comments Due: 5 p.m. ET 10/13/20.

Docket Numbers: RP20-1256-000.

Applicants: El Paso Natural Gas Company, L.L.C.

Description: § 4(d) Rate Filing: Negotiated Rate Agreement Update (APS Oct 2020) to be effective 10/1/2020.

Filed Date: 9/30/20.

Accession Number: 20200930-5104.

Comments Due: 5 p.m. ET 10/13/20.

Docket Numbers: RP20-1257-000.

Applicants: El Paso Natural Gas Company, L.L.C.

Description: § 4(d) Rate Filing: Non-Conforming Agreement (MRC Permian) to be effective 11/1/2020.

Filed Date: 9/30/20.

Accession Number: 20200930-5110.

Comments Due: 5 p.m. ET 10/13/20.

Docket Numbers: RP20-1258-000.

Applicants: Colorado Interstate Gas Company, L.L.C.

Description: § 4(d) Rate Filing: Negotiated Rate Agreement Filing (BP Energy #211039-TF1CIG) to be effective 11/1/2020.

Filed Date: 9/30/20.

Accession Number: 20200930-5114.

Comments Due: 5 p.m. ET 10/13/20.

Docket Numbers: RP20-1259-000.

Applicants: Transcontinental Gas Pipe Line Company, LLC.

Description: § 4(d) Rate Filing: Negotiated Rates—Cherokee AGL—Replacement Shippers—Oct 2020 to be effective 10/1/2020.

Filed Date: 9/30/20.

Accession Number: 20200930-5117.

Comments Due: 5 p.m. ET 10/13/20.

Docket Numbers: RP20-1260-000.

Applicants: Algonquin Gas Transmission, LLC.

Description: § 4(d) Rate Filing: Atlantic Bridge In-Service NRA Filing to be effective 10/1/2020.

Filed Date: 9/30/20.

Accession Number: 20200930-5118.

Comments Due: 5 p.m. ET 10/13/20.

Docket Numbers: RP20-1261-000.

Applicants: Algonquin Gas Transmission, LLC.

Description: § 4(d) Rate Filing: Atlantic Bridge In-Service NC Filing to be effective 10/1/2020.

Filed Date: 9/30/20.

Accession Number: 20200930-5120.

Comments Due: 5 p.m. ET 10/13/20.

Docket Numbers: RP20-1262-000.

Applicants: Maritimes & Northeast Pipeline, L.L.C.

Description: § 4(d) Rate Filing: MNUS FRQ 2020 Filing to be effective 11/1/2020.

Filed Date: 9/30/20.

Accession Number: 20200930-5163.

Comments Due: 5 p.m. ET 10/13/20.

Docket Numbers: RP20-1263-000.

Applicants: El Paso Natural Gas Company, L.L.C.

Description: § 4(d) Rate Filing: Non-Conforming Agreements Filing (Sempra) to be effective 11/1/2020.

Filed Date: 9/30/20.

Accession Number: 20200930-5184.

Comments Due: 5 p.m. ET 10/13/20.

Docket Numbers: RP20-1264-000.

Applicants: Young Gas Storage Company, Ltd.

Description: Compliance filing Operational Purchase and Sale Report.

Filed Date: 9/30/20.

Accession Number: 20200930-5186.

Comments Due: 5 p.m. ET 10/13/20.

Docket Numbers: RP20-1265-000.

Applicants: Rockies Express Pipeline LLC.

Description: § 4(d) Rate Filing: REX 2020-09-30 Negotiated Rate Agreement Amendments to be effective 10/1/2020.

Filed Date: 9/30/20.

Accession Number: 20200930-5193.

Comments Due: 5 p.m. ET 10/13/20.

Docket Numbers: RP20-1266-000.

Applicants: Ozark Gas Transmission, L.L.C.

Description: Compliance filing Ozark Gas Revision to Non-Conforming Agreements to be effective 11/1/2020.

Filed Date: 9/30/20.

Accession Number: 20200930-5194.

Comments Due: 5 p.m. ET 10/13/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 1, 2020.
Nathaniel J. Davis, Sr.,
Deputy Secretary.

[FR Doc. 2020-22149 Filed 10-6-20; 8:45 am]

BILLING CODE 6717-01-P